DEPARTMENT OF AGRICULTURE

Forest Service

Wenatchee-Okanogan Resource Advisory Committee

AGENCY: Forest Service, Agriculture (USDA).

ACTION: Notice of meeting.

SUMMARY: The Wenatchee-Okanogan Resource Advisory Committee (RAC) will hold two public meetings according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act, as well as make recommendations on recreation fee proposals for sites on the Okanogan-Wenatchee National Forest within Okanogan, Chelan, Kittitas, and Yakima Counties, consistent with the Federal Lands Recreation Enhancement Act.

DATES: Two in-person and virtual meetings will be held on November 7, 2024, from 9 a.m.-4 p.m., and November 13, 2024, from 9 a.m.-4 p.m., Pacific Daylight Time.

Written and Oral Comments: Anyone wishing to provide in-person and/or virtual oral comments must pre-register by 11:59 p.m. (Pacific Daylight Time) on November 4, 2024. Written public comments will be accepted by 11:59 p.m. (Pacific Daylight Time) on November 4, 2024. Comments submitted after this date will be provided to the Agency, but the Committee may not have adequate time to consider those comments prior to the meeting.

All RAC meetings are subject to cancellation. For status of the meeting prior to attendance, please contact the person listed under FOR FURTHER INFORMATION CONTACT.

ADDRESSES: These meetings will be held in-person and virtually at the Okanogan-Wenatchee National Forest Headquarters Office, located at 215 Melody Lane, Wenatchee, Washington. The public may also join virtually via the links that will be posted to the Okanogan-Wenatchee National Forest website. RAC information and meeting details can be found at the following website: https://www.fs.usda.gov/detail/okawen/workingtogether/advisorycommittees/?cid=fsbdev3_053646 or by contacting the person listed under FOR FURTHER INFORMATION CONTACT.

Written Comments: Written comments must be sent by email to Robin.demario@usda.gov or via mail (postmarked) to Robin DeMario, Okanogan-Wenatchee National Forest, 215 Melody Lane, Wenatchee, Washington 98801. The Forest Service strongly prefers comments be submitted electronically.

Oral Comments: Persons or organizations wishing to make oral comments must pre-register by 11:59 p.m. Pacific Daylight Time, November 4, 2024, and speakers can only register for one speaking slot at each meeting. Oral comments must be sent by email to robin.demario@usda.gov or via mail (postmarked) to Robin DeMario, Okanogan-Wenatchee National Forest, 215 Melody Lane, Wenatchee, Washington 98801.

FOR FURTHER INFORMATION CONTACT: Victoria Wilkins Designated Federal Officer (DFO), by phone at 509-470-4588 or email at victoria.wilkins@usda.gov or Robin DeMario, RAC Coordinator at 509-664-9292 or email at robin.demario@usda.gov.

SUPPLEMENTARY INFORMATION: The purpose of the meeting is to:

1. Hear from Title II project proponents and discuss Title II project proposals;

2. Make funding recommendations on Title II projects;

3. Approve October RAC meeting minutes;

4. Schedule the next meeting if needed.

The agenda will include time for individuals to make oral statements of three minutes or less. Individuals wishing to make an oral statement should make a request in writing at least three days prior to the meeting date to be scheduled on the agenda. Written comments may be submitted to the Forest Service up to 3 days after the meeting dates listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section, or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the Committee have taken into account the needs of the diverse groups served by the Department, membership shall include, to the extent practicable, individuals with demonstrated ability to represent the many communities, identities, races, ethnicities, backgrounds, abilities, cultures, and beliefs of the American people, including underserved communities. USDA is an equal opportunity provider, employer, and lender.

Cikena Reid,
USDA Committee Management Officer.

[FR Doc. 2024-22688 Filed 10-22-24; 8:45 am]

BILLING CODE 3411-15-P